DEPARTMENT OF THE INTERIOR

Fish and Wildlife Service

[FWS-R9-IA-2008-N0279; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by November 17, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531 et. seq.). Written data, comments, or requests for copies of these complete applications should be submitted to the Director (address above).

Applicant: U.S. Fish and Wildlife Service, Mexican Wolf Reintroduction Project, Region 2, Albuquerque, NM, PRT-104074.

The applicant requests amendment of a permit that currently authorizes export and re-export to Mexico of live Mexican or lobo wolves (Canis lupus baileyi), and blood, hair, and tissue specimens of captive and wild origin Mexican or lobo wolves for breeding and reintroduction. The applicant requests the addition of export and re-export of the above biological specimens worldwide for the purpose of scientific research and enhancement of the propagation or survival of the species. This notification covers activities to be conducted by the applicant over a five-year period.

Applicant: Robert D. Ray, Mansfield, TX, PRT-192764.

The applicant requests a permit to import the sport-hunted trophy of one male bontebok (Damaliscus pygargus pygargus) culled from a captive herd maintained under the management program of the Republic of South Africa, for the purpose of enhancement of the survival of the species.

Applicant: Dean G. Grommet, Whitefish, MT, PRT-193960.

The applicant requests a permit to import the sport-hunted trophy of one male bontebok (Damaliscus pygargus pygargus) culled from a captive herd maintained under the management program of the Republic of South Africa, for the purpose of enhancement of the survival of the species.

Applicant: William C. Myer Jr., Kelseyville, CA, PRT-194061.

The applicant requests a permit to import the sport-hunted trophy of one male bontebok (Damaliscus pygargus pygargus) culled from a captive herd maintained under the management program of the Republic of South Africa, for the purpose of enhancement of the survival of the species.

Applicant: Michael D. Jenkins, Amarillo, TX, PRT-194838.

The applicant requests a permit to import the sport-hunted trophy of one male bontebok (Damaliscus pygargus pygargus) culled from a captive herd maintained under the management program of the Republic of South Africa, for the purpose of enhancement of the survival of the species.

Dated: October 3, 2008.
Lisa J. Lierheimer,
Senior Permit Biologist, Branch of Permits, Division of Management Authority.

[FR Doc. E8-24726 Filed 10-16-08; 8:45 am]

BILLING CODE 4310-55-P